DEPARTMENT OF TRANSPORTATION

Federal Railroad Administration

Notice Rescinding Two Notices of Intent To Prepare Environmental Impact Statements

AGENCY: Federal Railroad Administration (FRA), U.S. Department of Transportation (DOT).

ACTION: Notice.

SUMMARY: FRA is issuing this notice to advise the public that FRA is rescinding the Notice of Intent (NOI) for each Environmental Impact Statement (EIS): the Dallas to Fort Worth Core Express Passenger Service between Dallas and Fort Worth, Texas and the New Orleans Rail Gateway in Jefferson and Orleans Parishes, Louisiana.

FOR FURTHER INFORMATION CONTACT: Michael Johnsen, Supervisory Environmental Protection Specialist, at the Federal Railroad Administration, 1200 New Jersey Avenue SE, Washington, DC 20590; telephone (202) 493-0845 or email Michael.Johnsen@dot.gov.

SUPPLEMENTARY INFORMATION:

FRA is rescinding the NOIs for two EISs due to project scope changes proposed by the State sponsor. First, FRA is rescinding the NOI for the EIS evaluating the Dallas to Fort Worth Core Express Passenger Service between Dallas and Fort Worth. FRA issued the NOI on September 5, 2014.

Second, FRA is rescinding the NOI for the EIS evaluating the proposed New Orleans Rail Gateway Program. FRA issued the NOI on January 13, 2012.

FRA is recinding these NOIs following coordination with the State sponsors.

Issued in Washington, DC.
Paul Nissenbaum,
Associate Administrator, Office of Railroad Policy and Development.

[FR Doc. 2020-03956 Filed 2-26-20; 8:45 a.m.]

BILLING CODE 4910-06-P